DEPARTMENT OF COMMERCE

National Oceanic and Atmospheric Administration

RIN 0648-XB157

Marine Mammals; File Nos. 14856 and 14809

AGENCY: National Marine Fisheries Service (NMFS), National Oceanic and Atmospheric Administration (NOAA), Commerce.

ACTION: Notice; issuance of permit amendments.

SUMMARY: Notice is hereby given that major amendments to Permit No. 14809-01 and Permit No. 14856-03 have been issued to Douglas Nowacek, Ph.D., Duke University Marine Laboratory, 135 Duke Marine Lab Rd., Beaufort, NC 28516 and Bruce R. Mate, Ph.D., Hatfield Marine Science Center, Oregon State University, Newport, OR 97365, respectively.

ADDRESSES: The permit amendments and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Hapeman or Carrie Hubard, (301) 427-8401.

SUPPLEMENTARY INFORMATION: On June 29, 2015 and April 2, 2015, notices were published in the Federal Register (80 FR 36975 and 80 FR 17721, respectively) that a request for amendments to Permit Nos. 14809-01 and 14856-03 to conduct research on marine mammals had been submitted by the above-named applicants. The requested permit amendments have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 14809-01 authorizes Dr. Nowacek to conduct comparative research on 34 species/stocks of cetaceans in the North Atlantic, North Pacific and Southern Oceans. Authorized activities include suction cup tagging, acoustic playbacks, passive acoustics, biopsy sampling, photo-identification, behavioral observations, and incidental harassment during vessel surveys. The research objectives are to: (1) Document baseline foraging and social behavior of cetacean species under different ecological conditions; (2) place these behaviors in a population-level context; and (3) determine how these species respond to various natural sound sources. The permit has been amended (No. 02) to authorize the use of dart/barb tags during tagging efforts on Cuvier's beaked whales (Ziphius cavirostris), short-finned pilot whales (Globicephala macrorhynchus), Risso's dolphins (Grampus griseus), Arnoux's beaked whales (Berardius arnuxii), Antarctic minke whales (Balaenoptera bonaerensis) and endangered humpback whales (Megaptera novaeangliae) during vessel surveys. The permit is valid through March 31, 2019.

Permit No. 14856-03 authorizes Dr. Mate to take 66 species of cetaceans and 12 species of pinnipeds in U.S. and international waters worldwide for scientific research. The purposes of the research are to: (1) Identify migration routes; (2) identify specific feeding and breeding grounds; (3) characterize local movements and dive habits in both feeding and breeding grounds, and during migration; (4) examine the relationships between movements/dive habits and prey distribution, time of day, geographic location, or physical and biological oceanographic conditions; (5) characterize whale vocalizations; (6) characterize sound pressure levels to which whales are exposed; and (7) gather photo-identification and behavioral information. Researchers are authorized to conduct aerial and vessel surveys and a suite of research activities including: Observations, biopsy sampling, tagging, and import, receive or export parts. The permit has been amended (No. 04) to increase the number of humpback whales that may be taken by Level B harassment during surveys from 1,000 to 2,000 animals annually. The permit expires December 31, 2018.

In compliance with the National Environmental Policy Act of 1969 (42 U.S.C. 4321 et seq.) (NEPA), a final determination has been made that the activity proposed for Permit No. 14809-02 is categorically excluded from the requirement to prepare an environmental assessment (EA) or environmental impact statement.

A supplemental EA analyzing the effects of the permitted activities on the human environment was prepared for Permit No. 14856-04 in compliance with NEPA. Based on the analyses in the EA, NMFS determined that issuance of the permit would not significantly impact the quality of the human environment and that preparation of an environmental impact statement was not required. That determination is documented in a Finding of No Significant Impact (FONSI), signed on October 27, 2015.

As required by the ESA, issuance of the permits was based on a finding that each permit: (1) Was applied for in good faith; (2) will not operate to the disadvantage of such endangered species; and (3) is consistent with the purposes and policies set forth in section 2 of the ESA.

Dated: January 6, 2016.
Julia Harrison,
Chief, Permits and Conservation Division, Office of Protected Resources, National Marine Fisheries Service.

[FR Doc. 2016-00455 Filed 1-12-16; 8:45 am]

BILLING CODE 3510-22-P